FEDERAL COMMUNICATIONS COMMISSION

47 CFR Part 73

[DA 01-2987; MM Docket No. 00-53; RM-9823, RM-9950]

Radio Broadcasting Services; Detroit Lakes, and Barnesville, MN, and Enderlin, ND

AGENCY: Federal Communications Commission.

ACTION: Final rule.

SUMMARY: At the request of T&J Broadcasting, Inc. this document reallots Channel 236C1 from Detroit Lakes, Minnesota, to Barnesville, Minnesota, and modifies the Station KRVI license to specify Barnesville as the community of license. This document also dismisses a Counterproposal filed by Enderlin Broadcasting Company for a Channel 233C1 allotment at Enderlin, North Dakota. See 65 FR 17618, published April 4, 2000. The reference coordinates for Channel 236C1 allotment at Barnesville, North Dakota, are 46-49-10 and 96-45-56.

DATES: Effective February 6, 2002.

FOR FURTHER INFORMATION CONTACT: Robert Hayne, Mass Media Bureau (202) 418-2177.

SUPPLEMENTARY INFORMATION: This is a synopsis of the Commission's Report and Order in MM Docket No. 00-53, adopted December 19, 2000, and released December 21, 2000. The full text of this decision is available for inspection and copying during normal business hours in the FCC's Reference Information Center at Portals II, CY-A257, 445 12th Street, SW, Washington, DC 20554. The complete text of this decision may also be purchased from the Commission's copy contractor, Qualex International Portals II, 445 12th Street, SW, Room CY-B402, Washington, DC 20554, telephone 202-863-2893, facsimile 202-863-2898, or via e-mail: qualexint@aol.com.

List of Subjects in 47 CFR Part 73

Radio broadcasting.

Part 73 of Title 47 of the Code of Federal Regulations is amended as follows:

PART 73—RADIO BROADCAST SERVICES

1. The authority citation for Part 73 continues to read as follows:

Authority: 47 U.S.C. 154, 303, 334, and 336.

§ 73.202 [Amended]

2. Section 73.202(b), the Table of FM Allotments under Minnesota, is amended by removing Channel 236C1 at Detroit Lakes and adding Barnesville, Channel 236C1.

Federal Communications Commission.
John A. Karousos,
Chief, Allocations Branch, Policy and Rules Division, Mass Media Bureau.

[FR Doc. 02-374 Filed 1-7-02; 8:45 am]

BILLING CODE 6712-01-P